DEPARTMENT OF COMMERCE

Foreign-Trade Zones Board

[B-93-2012]

Foreign-Trade Zone 33—Pittsburgh, Pennsylvania, Authorization of Export Production Activity, Tsudis Chocolate Company (Chocolate Confectionery Bars), Pittsburgh, Pennsylvania

On December 4, 2012, Tsudis Chocolate Company, submitted a notification of proposed export production activity to the Foreign-Trade Zones (FTZ) Board for its facility within FTZ 33—Site 10, in Pittsburgh, Pennsylvania.

The notification was processed in accordance with the regulations of the FTZ Board (15 CFR part 400), including notice in the Federal Register inviting public comment (77 FR 77016, 12-31-2012). The FTZ Board has determined that no further review of the activity is warranted at this time. The production activity described in the notification is authorized, subject to the FTZ Act and the Board's regulations, including Section 400.14, and further subject to a restriction requiring that all foreign-status liquid chocolate admitted to FTZ 33 must be re-exported.

Dated: April 11, 2013.
Andrew McGilvray,
Executive Secretary.

[FR Doc. 2013-09042 Filed 4-16-13; 8:45 am]

BILLING CODE P